DEPARTMENT OF THE INTERIOR

National Park Service

[NPS-WASO-NAGPRA-NPS0036672; PPWOCRADN0-PCU00RP14.R50000]

Notice of Inventory Completion: Arizona State University, School of Human Evolution and Social Change, Tempe, AZ

AGENCY: National Park Service, Interior.

ACTION: Notice.

SUMMARY: In accordance with the Native American Graves Protection and Repatriation Act (NAGPRA), the Arizona State University, Center for Archaeology and Society Repository (acting in place of the Arizona State University, School of Human Evolution and Social Change) has completed an inventory of human remains and associated funerary objects and has determined that there is a cultural affiliation between the human remains and associated funerary objects and Indian Tribes or Native Hawaiian organizations in this notice. The human remains and associated funerary objects were removed from Maricopa County, AZ.

DATES: Repatriation of the human remains and associated funerary objects in this notice may occur on or after October 30, 2023.

ADDRESSES: Allisen Dahlstedt, Arizona State University, School of Human Evolution and Social Change, P.O. Box 872402, Tempe, AZ 85287-2402, email Allisen.Dahlstedt@asu.edu and Christopher Caseldine, Arizona State University, School of Human Evolution and Social Change, P.O. Box 872402, Tempe, AZ 85287-2402, telephone (480) 965-6957, email Christopher.Caseldine@asu.edu.

SUPPLEMENTARY INFORMATION: This notice is published as part of the National Park Service's administrative responsibilities under NAGPRA. The determinations in this notice are the sole responsibility of the Arizona State University, Center for Archaeology and Society Repository. The National Park Service is not responsible for the determinations in this notice. Additional information on the determinations in this notice, including the results of consultation, can be found in the inventory or related records held by the Arizona State University, Center for Archaeology and Society Repository.

Description

Human remains representing, at minimum, three individuals were removed from Maricopa County, AZ. These disinterments occurred during three separate projects over the course of nine years.

In 1959, the human remains of one individual were removed from the western portion of Las Colinas—then designated The Spear Site—by an undergraduate student in the Department of Sociology and Anthropology at Arizona State University (ASU). No details about the project or its curation at ASU are available. The individual is an adult of indeterminate sex. The six associated funerary objects are: one lot consisting of loose soil with charcoal, one lot consisting of stone materials, one obsidian chip with a shaped edge, one ceramic sherd, one lot consisting of shell fragments, and one lot consisting of faunal skeletal fragments.

On April 29, 1961, ASU Department of Anthropology faculty Dr. Donald Morris was contacted to recover a burial that had been disturbed by a contractor doing construction-related excavation for a caisson within the Las Colinas site. The human remains of one individual and several cultural objects within this mortuary feature were removed and brought to ASU. The individual is an adult, likely male. The 23 associated funerary objects are: one chert biface, one incised bone object interpreted by Morris to be parts of a wand, one three-quarter grooved axe, one lot consisting of faunal bone, four lots consisting of charred fiber/textile material, two lots consisting of charred wood, one lot consisting of shell fragments, one lot consisting of chipped stones, one reconstructed ceramic bowl, one partially intact ceramic jar, one partially reconstructable bowl, and eight lots consisting of mixed ceramic sherds.

In 1967, the human remains of one individual were removed by an unknown person. Based on bag labels, the disinterment likely took place on March 9, 1967, as part of a salvage project for Arizona Public Service (APS) at Las Colinas (no other field documentation records have been located). The individual is an adult of indeterminate sex. The three associated funerary objects are one lot consisting of unworked shell fragments, one lot consisting of mixed ceramic sherds, and one lot consisting of lithic debitage.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, folkloric, geographical, kinship, linguistic, oral traditional, and other relevant information.

Determinations

Pursuant to NAGPRA and its implementing regulations, and after consultation with the appropriate Indian Tribes and Native Hawaiian organizations, the Arizona State University, Center for Archaeology and Society Repository has determined that:

• The human remains described in this notice represent the partial physical remains of three individuals of Native American ancestry.

• The 32 associated funerary objects described in this notice are reasonably believed to have been placed with or near individual human remains at the time of death or later as part of the death rite or ceremony.

• There is a relationship of shared group identity that can be reasonably traced between the human remains and associated funerary objects described in this notice and the Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Written requests for repatriation of the human remains and associated funerary objects in this notice must be sent to the Responsible Officials identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 30, 2023. If competing requests for repatriation are received, the Arizona State University, Center for Archaeology and Society Repository must determine the most appropriate requestor prior to repatriation. Requests for joint repatriation of the human remains and associated funerary objects are considered a single request and not competing requests. The Arizona State University, Center for Archaeology and Society Repository is responsible for sending a copy of this notice to the Indian Tribes identified in this notice.

Authority: Native American Graves Protection and Repatriation Act, 25 U.S.C. 3003, and the implementing regulations, 43 CFR 10.9, 10.10, and 10.14.

Dated: September 25, 2023.
Melanie O'Brien,
Manager, National NAGPRA Program.

[FR Doc. 2023-21385 Filed 9-28-23; 8:45 am]

BILLING CODE 4312-52-P